ENVIRONMENTAL PROTECTION AGENCY

[EPA-HQ-OPP-2015-0344; FRL-9928-30]

Eastern Research Group, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Eastern Research Group, Inc., in accordance with the CBI regulations. Eastern Research Group, Inc., has been awarded a multiple contract to perform work for OPP, and access to this information will enable Eastern Research Group, Inc., to fulfill the obligations of this contract.

DATES: Eastern Research Group, Inc., will be given access to this information on or before June 15, 2015.

FOR FURTHER INFORMATION CONTACT: Mario Steadman, Information Technology and Resources Management Division (7502P), Office of Pesticide Programs, Environmental Protection Agency, 1200 Pennsylvania Ave. NW., Washington, DC 20460-0001; telephone number: (703) 305-8338; email address: steadman.mario@epa.gov.

SUPPLEMENTARY INFORMATION:

I. General Information

A. Does this action apply to me?

This action applies to the public in general. As such, the Agency has not attempted to describe all the specific entities that may be affected by this action.

B. How can I get copies of this document and other related information?

The docket for this action, identified by docket identification (ID) number EPA-HQ-OPP-2015-0344 is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Contractor Requirements

Under Contract No. EP-W-15-006, Eastern Research Group, Inc., will provide analytical, technical, and administrative support services for the Office of Civil Enforcement (OCE) other EPA offices, regions, states, U.S. Territories, U.S. international border areas, and other agencies and organizations. The contractor will submit all work products for review and approval to the appropriate personnel at EPA prior to its preparation and issuance in draft or final, in accordance with the terms and conditions of the contract and directions in the work assignment and technical directives. EPA will review all products prepared by the contractor and make all final determinations. The contractor will not make any decision for the Agency nor develop EPA policy. In no event will the contractor provide legal services or offer any legal interpretations under this contract without the prior written approval of EPA, Office of General Counsel (OGC) and the OCE.

This contract involves no subcontractors. OPP has determined that it involves work that is being conducted in connection with FIFRA, in that pesticide chemicals will be the subject of certain evaluations to be made under the contract. These evaluations may be used in subsequent regulatory decisions under FIFRA.

Some of this information may be entitled to confidential treatment. The information has been submitted to EPA under FIFRA sections 3, 4, 6, and 7 and under FFDCA sections 408 and 409.

In accordance with the requirements of 40 CFR 2.307(h)(3), this contract with Eastern Research Group, Inc., prohibits use of the information for any purpose not specified; prohibits disclosure of the information to a third party without prior written approval from the Agency; and requires that each official and employee of the contractor sign an agreement to protect the information from unauthorized release and to handle information in accordance with the FIFRA Information Security Manual. In addition, Eastern Research Group, Inc., is required to submit for EPA approval a security plan under which any CBI will be secured and protected against unauthorized release or compromise. No information will be provided to Eastern Research Group, Inc., until the requirements in this document have been fully satisfied. Records of information provided to Eastern Research Group, Inc., will be maintained by EPA Project Officers. All information supplied to Eastern Research Group, Inc., by EPA for use in connection with the contract will be returned to EPA when Eastern Research Group, Inc., has completed its work.

Authority: 7 U.S.C. 136 et seq.; 21 U.S.C. 301 et seq.

Dated: May 28, 2015.
Mark A. Hartman,
Acting Director, Information Technology and Resources Management Division, Office of Pesticide Programs.

[FR Doc. 2015-14222 Filed 6-9-15; 8:45 am]

BILLING CODE 6560-50-P